DEPARTMENT OF TRANSPORTATION

Federal Aviation Administration

14 CFR Part 71

[Docket No. FAA-2014-1069; Airspace Docket No. 14-ANM-11]

Amendment of Class D and Class E Airspace, Revocation of Class E Airspace; Salem, OR

AGENCY: Federal Aviation Administration (FAA), DOT.

ACTION: Final rule.

SUMMARY: This action modifies Class D airspace, Class E surface area airspace, Class E airspace extending upward from 700 feet above the surface, and removes Class E surface area airspace designated as an extension at McNary Field, Salem, OR. After reviewing the airspace, the FAA found it necessary to increase the airspace areas for the safety and management of Instrument Flight Rules (IFR) operations during Standard Instrument Approach Procedures (SIAPs) at the airport.

DATES: Effective 0901 UTC, August 20, 2015. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed on line at http://www.faa.gov/airtraffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Regulations Group, Federal Aviation Administration, 800 Independence Avenue SW., Washington, DC, 29591; telephone: 202-267-8783.

FOR FURTHER INFORMATION CONTACT: Steve Haga, Federal Aviation Administration, Operations Support Group, Western Service Center, 1601 Lind Avenue SW., Renton, WA, 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at McNary Field, Salem, OR.

History

On May 1, 2015, the FAA published in the Federal Register a notice of proposed rulemaking (NPRM) to modify Class D airspace, Class E surface area airspace, Class E airspace extending upward from 700 feet above the surface, and remove Class E surface area airspace designated as an extension at McNary Field, Salem, OR (80 FR 24858). Interested parties were invited to participate in this rulemaking effort by submitting written comments on the proposal to the FAA. No comments were received.

Class D and Class E airspace designations are published in paragraph 5000, 6002, 6004, and 6005, respectively, of FAA Order 7400.9Y, dated August 6, 2014, and effective September 15, 2014, which is incorporated by reference in 14 CFR 71.1. The Class D and Class E airspace designations listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This amendment to Title 14, Code of Federal Regulations (14 CFR) part 71 modifies Class D airspace, Class E surface area airspace, Class E airspace extending upward from 700 feet above the surface, and removes Class E surface area airspace as an extension at McNary Field, Salem, OR. A review of the airspace revealed an increase and reconfiguration of the airspace is needed for IFR operations due to cancellation of the Turno non-directional radio beacon (NDB) and cancellation of the NDB approach. Class D airspace and Class E surface area airspace extends upward from the surface to and including 2,700 feet within a 4-mile radius northeast of McNary Field, within a 6.2-mile radius southeast of the airport, and within an 8.1-mile radius southeast to northwest of the airport, excluding airspace within 1.2 miles of Independence State Airport, OR. Class E airspace extending upward from 700 feet above the surface is amended to within a 6.5-mile radius northeast of McNary Field, within an 8.2-mile radius southeast of the airport, and within a 9.1-mile radius southeast to northwest of the airport, excluding airspace within 1.2 miles of Independence State Airport, OR. This action enhances the safety and management of controlled airspace within the NAS.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 5000 Class D airspace.

* * * * *

ANM OR D Salem, OR [Modified]

Salem, McNary Field, OR

(Lat. 44°54′34″ N., long. 123°00′09″ W.)

Independence, Independence State Airport, OR

(Lat. 44°52′01″ N., long. 123°11′54″ W.)

That airspace extending upward from the surface to and including 2,700 feet MSL within a 4-mile radius of McNary Field from the 330° bearing from the airport clockwise to the 074° bearing, and that airspace within a 6.2-mile radius of McNary Field from the 074° bearing from the airport clockwise to the 150° bearing, and that airspace within a 8.1-mile radius of McNary Field from the 150° bearing from the airport clockwise to the 330° bearing, excluding that airspace within 1.2 miles of Independence State Airport, OR. This Class D airspace area is effective during the specific dates and times established in advance by a Notice to Airmen. The effective date and time will thereafter be continuously published in the Airport/Facility Directory.

Paragraph 6002 Class E Airspace Designated as Surface Areas.

* * * * *

ANM OR E2 Salem, OR [Modified]

Salem, McNary Field, OR

(Lat. 44°54′34″ N., long. 123°00′09″ W.)

Independence, Independence State Airport, OR

(Lat. 44°52′01″ N., long. 123°11′54″ W.)

That airspace extending upward from the surface within a 4-mile radius of McNary Field from the 330° bearing from the airport clockwise to the 074° bearing, and that airspace within a 6.2-mile radius of McNary Field from the 074° bearing from the airport clockwise to the 150° bearing, and that airspace within a 8.1-mile radius of McNary Field from the 150° bearing from the airport clockwise to the 330° bearing, excluding that airspace within 1.2 miles of Independence State Airport, OR. This Class E airspace area is effective during the specific dates and times established in advance by a Notice to Airmen. The effective date and time will thereafter be continuously published in the Airport/Facility Directory.

Paragraph 6004 Class E Airspace Areas Designated as an Extension to a Class D or Class E Surface Area.

* * * * *

ANM OR E4 Salem, OR [Removed]

Paragraph 6005 Class E Airspace areas extending upward from 700 feet or more above the surface of the earth.

* * * * *

ANM OR E5 Salem, OR [Modified]

Salem, McNary Field, OR

(Lat. 44°54′34″ N., long. 123°00′09″ W.)

Independence, Independence State Airport, OR

(Lat. 44°52′01″ N., long. 123°11′54″ W.)

That airspace extending upward from 700 feet above the surface within a 6.5-mile radius of McNary Field from the 330° bearing from the airport clockwise to the 074° bearing, and that airspace within a 8.2-mile radius of McNary Field from the 074° bearing from the airport clockwise to the 150° bearing, and that airspace within a 9.1-mile radius of McNary Field from the 150° bearing from the airport clockwise to the 330° bearing, excluding that airspace within 1.2 miles of Independence State Airport, OR.

Issued in Seattle, Washington, on June 22, 2015.
Christopher Ramirez,
Manager, Operations Support Group, Western Service Center.

[FR Doc. 2015-15951 Filed 6-29-15; 8:45 am]

BILLING CODE 4910-13-P